DEPARTMENT OF JUSTICE

Antitrust Division

Notice Pursuant to the National Cooperative Research and Production Act of 1993—Open RF Association, Inc.

Notice is hereby given that, on February 21, 2020 pursuant to Section 6(a) of the National Cooperative Research and Production Act of 1993, 15 U.S.C. 4301 et seq. (“the Act”), Open RF Association, Inc. filed written notifications simultaneously with the Attorney General and the Federal Trade Commission disclosing (1) the identities of the parties to Open RF Association, Inc. and (2) the nature and objectives of Open RF Association, Inc. The notifications were filed for the purpose of invoking the Act's provisions limiting the recovery of antitrust plaintiffs to actual damages under specified circumstances.

Pursuant to Section 6(b) of the Act, the identities of the members of Open RF Association, Inc. are the following companies: Broadcom Inc., San Jose, CA; Qorvo, Hillsboro, OR; and Skyworks Solutions, Inc., Irvine CA. The general areas of Open RF Association, Inc.'s general areas of planned activity are to promote the development and adoption of global, open, accessible RFFE (Radio Frequency Front End) interoperability standards and/or specifications for 4/5G Mobile Devices (“Specifications”), and to undertake such other activities as may from time to time be appropriate to further the purposes and achieve the goals set forth above.

Membership in Open RF Association, Inc. remains open and Open RF Association, Inc. intends to file additional written notifications disclosing all changes in membership.

Suzanne Morris,
Chief, Premerger and Division Statistics.

[FR Doc. 2020-04914 Filed 3-10-20; 8:45 am]

BILLING CODE 4410-11-P